DEPARTMENT OF ENERGY

Federal Energy Regulatory Commission

[Docket No. IC01-512-001, FERC-512]

Information Collection Submitted for Review and Request for Comments

January 23, 2001.

AGENCY: Federal Energy Regulatory Commission, DOE.

ACTION: Notice of submission for review by the Office of Management and Budget (OMB) and request for comments.

SUMMARY: The Federal Energy Regulatory Commission (Commission) has submitted the energy information collection listed in this notice to Office of Management and Budget (OMB) for review under provisions of section 3507 of the Paperwork Reduction Act of 1995 (Pub. L. No. 104-13). Any interested person may file comments on the collection of information directly with OMB and should address a copy of those comments to the Commission as explained below. The Commission received no comments in response to an earlier Federal Register notice of November 20, 2000 (65 FR 69754) and has made this notation in its submission to OMB.

DATES: Comments regarding this collection of information are best assured of having their full effect if received on or before February 2, 2001.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202) 208-1415, by fax at (202) 208-2425, and by e-mail at mike.miller@ferc.fed.us.

SUPPLEMENTARY INFORMATION:

Description

The energy information collection submitted to OMB for review contains:

1. Collection of Information: FERC-512 “Application for Preliminary Permit”.

2. Sponsor: Federal Energy Regulatory Commission.

3. Control No.: OMB No. 1902-0073. The Commission is now requesting that OMB approve a three-year extension of the current expiration date, with no changes to the existing collection. These are mandatory collection requirements. The Commission does not consider this information to be confidential.

4. Necessity of Collection of Information: Submission of the information is necessary to enable the Commission to carry out its responsibilities in implementing the provisions of the Federal Power Act (FPA). The information reported under Commission identifier FERC-512 is filed in accordance with sections 4(f), 5, and 7(FPA). Part I of the FPA gives the Commission Authority to issue licenses for hydropower projects on waters subject to the Congressional authority. Preliminary permits, issued for three years, reserve rights to study the feasibility of hydropower development at a specific site, but do not authorize construction of any hydropower facilities. The purpose of obtaining a preliminary permit is to maintain priority status for an application for a license, while the applicant conducts site examinations and surveys to prepare maps, plans, specifications and estimates. This period of time also provides the applicant with the opportunity to conduct engineering, economic and environmental feasibility studies; plus make financial arrangements for funding and construction of the site. The conditions under which the priority will be maintained are set forth in each permit. The filing requirements for submitting an application for a preliminary permit may be found in 18 CFR 4.31-33 and 4.81-.82.

5. Respondent Description: The respondent universe currently comprises on average, 45 respondents filing the recreation report.

6. Estimated Burden: 3,285 total burden hours, 45 respondents, 45 responses annually, 73 hours per response (average).

7. Estimated Cost Burden to Respondents: 3,285 hours ÷ 2,080 hours per year × $115,357 per year = $182,186. The cost per respondent is $4,048.

Statutory Authority: Sections 4(f), 5, and 7 of the Federal Power Act (FPA), 16 U.S.C. 797-800.

David P. Boergers,
Secretary.

[FR Doc. 01-2433 Filed 1-26-01; 8:45 am]

BILLING CODE 6717-01-M